DEPARTMENT OF HOUSING AND URBAN DEVELOPMENT

24 CFR Part 579

[Docket No. 5573-N-02]

RIN 2506-AC33

Homeless Emergency Assistance and Rapid Transition to Housing: Rural Housing Stability Assistance Program and Revisions to the Definition of “Chronically Homeless” Extension of Public Comment Only for Rural Housing Stability Assistance Program

AGENCY: Office of the Assistant Secretary for Community Planning and Development, HUD.

ACTION: Proposed rule; extension of public comment period.

SUMMARY: On March 27, 2013, HUD published a proposed rule seeking public comment on regulations that HUD would establish for the Rural Housing Stability Assistance Program. In the March 27, 2013, proposed rule, HUD also solicited comment on proposed revisions to the definition of “chronically homeless.”

This document announces that HUD is extending the public comment period only for the proposed regulations for the Rural Housing Stability Assistance Program to July 1, 2013. HUD is not extending the public comment deadline for HUD's proposed revisions to the definition of “chronically homeless.” HUD will commence reviewing public comments on the proposed definition of “chronically homeless” following the close of the comment period, May 28, 2013, provided in the March 27, 2013, publication.

DATES: Comment Due Date. July 1, 2013.

ADDRESSES: Interested persons are invited to submit comments regarding this rule to the Regulations Division, Office of General Counsel, 451 7th Street SW., Room 10276, Department of Housing and Urban Development, Washington, DC 20410-0500. There are two methods for submitting public comments. All submissions must refer to the above docket number and title.

1. Submission of Comments by Mail. Comments may be submitted by mail to the Regulations Division, Office of General Counsel, Department of Housing and Urban Development, 451 7th Street SW., Room 10276, Washington, DC 20410-0500.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov Web site can be viewed by other commenters and interested members of the public. Commenters should follow the instructions provided on that site to submit comments electronically.

Note: To receive consideration as public comments, comments must be submitted through one of the two methods specified above. Again, all submissions must refer to the docket number and title of the rule.

No Facsimile Comments. Facsimile (FAX) comments are not acceptable.

Public Inspection of Public Comments. All properly submitted comments and communications submitted to HUD will be available for public inspection and copying between 8 a.m. and 5 p.m., eastern time, weekdays at the above address. Due to security measures at the HUD Headquarters building, an advance appointment to review the public comments must be scheduled by calling the Regulations Division at 202-708-3055 (this is not a toll-free number). Individuals with speech or hearing impairments may access this number through TTY by calling the Federal Relay Service at 800-877-8339 (this is a toll-free number). Copies of all comments submitted are available for inspection and downloading at www.regulations.gov.

FOR FURTHER INFORMATION CONTACT: Ann Marie Oliva, Director, Office of Special Needs Assistance Programs, Office of Community Planning and Development, Department of Housing and Urban Development, 451 7th Street SW., Washington, DC 20410-7000; telephone number 202-708-4300 (this is not a toll-free number). Hearing- and speech-impaired persons may access this number through TTY by calling the Federal Relay Service at 800-877-8339 (this is a toll-free number).

SUPPLEMENTARY INFORMATION: The Homeless Emergency Assistance and Rapid Transition to Housing Act of 2009 (HEARTH Act), enacted into law on May 20, 2009, consolidates three of the separate homeless assistance programs administered by HUD under the McKinney-Vento Homeless Assistance Act into a single Continuum of Care program, revises the Emergency Shelter Grants program and renames this program the Emergency Solutions Grants program, and creates the Rural Housing Stability Assistance program to replace the Rural Homelessness Grant program. The HEARTH Act also directs HUD to promulgate regulations for these new programs and processes. On December 5, 2011, at 76 FR 75954, HUD published in the Federal Register an interim rule to implement the Emergency Solutions Grants (ESG) program. On July 31, 2012, at 77 FR 45422, HUD published in the Federal Register an interim rule to implement the Continuum of Care (CoC) program.

On March 27, 2013, at 78 FR 18726, HUD published in the Federal Register a proposed rule that would establish the regulations for the Rural Housing Stability Assistance program. The purpose of the Rural Housing Stability Assistance program is to rehouse or improve the housing situations of individuals and families who are homeless or in the worst housing situations in the geographic area; stabilize the housing of individuals and families who are in imminent danger of losing housing; and improve the ability of the lowest-income residents of the community to afford stable housing. In the March 27, 2013, proposed rule, HUD also solicited public comment on proposed revisions to the definition of “chronically homeless.”

“Chronically homeless” was first defined in HUD's ESG interim rule. In the CoC interim rule, HUD noted concerns raised by commenters on the definition of “chronically homeless,” specifically with respect to HUD's definition on what constitutes an occasion of homelessness or homeless occasion. In the CoC interim rule, and based on public comment received on the ESG interim rule, HUD announced that it was not adopting the full definition of “chronically homeless” presented in the ESG rule; that it would not apply the definition of “homeless occasion” incorporated in the definition of “chronically homeless” and would give further consideration to the meaning of this phrase.

The March 27, 2013, proposed rule offered changes to the meaning of “homeless occasion.” Given the considerable public comment and outreach already undertaken by HUD with respect to the definition of “homeless occasion,” the extension of the public comment period provided in this notice is not extended to the definition of “chronically homeless.” As stated earlier in this notice, HUD will commence reviewing public comments on the proposed definition of “chronically homeless” following the close of the comment period, May 28, 2013, as stated in the March 27, 2013 publication.

Through this notice, HUD is extending the public comment period through July 1, 2013, only for the proposed regulations for the Rural Housing Stability Assistance program. Funds were never appropriated for the predecessor program for the Rural Housing Stability Assistance program, which was the Rural Homelessness Grant program, and consequently regulations were never promulgated. Accordingly, this is the first set of HUD regulations that would be put in place to address rural homelessness, and HUD understands the need to provide more time to comment on the proposed regulations.

Dated: April 30, 2013.
Mark Johnston,
Deputy Assistant Secretary for Special Needs Programs.

[FR Doc. 2013-10862 Filed 5-6-13; 8:45 am]

BILLING CODE 4210-67-P